DEPARTMENT OF ENERGY

Environmental Assessment and Finding of No Significant Impact for Transportation of Low-Level Radioactive Waste From the Oak Ridge Reservation to Off-Site Treatment or Disposal Facilities

AGENCY: Department of Energy.

ACTION: Notice of availability.

SUMMARY: The Department of Energy (DOE), announces the availability of the Environmental Assessment (EA) and Finding of No Significant Impact (FONSI) for Transportation of Low-Level Radioactive Waste from the Oak Ridge Reservation to Off-Site Treatment or Disposal Facilities (DOE/EA-1315) for public review and comment. The EA has been prepared in accordance with the requirements of the National Environmental Policy Act of 1969 as amended (NEPA); Council on Environmental Quality regulations implementing NEPA, 40 CFR parts 1500-1508; and DOE NEPA Implementing Procedures.

DATES: The review period for the EA/FONSI begins with publication of this notice and extends for 30 days. Comments postmarked after that date will be considered to the extent practicable.

ADDRESSES: Comments on the EA/FONSI may be submitted by mail: Mr. William G. McMillan, U.S. Department of Energy, Oak Ridge Operations Office, PO Box 2001, Oak Ridge, Tennessee 37831, or by telephone (1-865-241-6426), or by fax (1-865-576-6074), or electronically at McMillanWG@oro.doe.gov, or by submitting comments to the NEPA e-mail box at NEPA@oro.doe.gov.

Copies of the Draft EA may also be obtained by contacting Mr. William McMillan by any of the means described above. The Draft EA is also available for review at the U.S. Department of Energy Public Reading Room at 230 Warehouse Road, Oak Ridge, TN 37830. Phone: (865) 241-4780 or 1-800-382-6938, option 6).

FOR FURTHER INFORMATION CONTACT: For general information on the DOE NEPA process, please contact: Ms. Carol M. Borgstrom, Director, Office of NEPA Policy and Compliance (EH-42), U.S. Department of Energy, 1000 Independence Avenue, SW., Washington, DC 20585, telephone 202-586-4600, or leave a message at 1-800-472-2756.

SUPPLEMENTARY INFORMATION: The EA evaluates the potential environmental impacts associated with transportation of legacy and operational low-level (radioactive) waste (LLW) from the Oak Ridge Reservation (ORR) in Tennessee for treatment or disposal at various locations in the United States. DOE has determined that the proposed action is not a major Federal action that would significantly affect the quality of the human environment within the context of NEPA. Therefore, preparation of an environmental impact statement is not necessary, and DOE is issuing a FONSI. The EA also evaluates the potential environmental impacts associated with the no action alternative.

The draft Environmental Assessment was distributed in June 2000 to the NEPA coordinators in each state through which proposed rail or highway routes pass, as well as to local stakeholders in the Oak Ridge, Tennessee, area. Their comments were received and incorporated into the document. Because this document involves transportation across the continental United States, however, DOE has concluded that it should provide opportunity for further comment to a broader distribution. Therefore, these documents are available for a 30-day public comment period. If significant issues are documented as a result of this comment period, the document will be revised as appropriate.

The DOE-Oak Ridge Operations (ORO) Office has LLW that must be transported from Oak Ridge to treatment and disposal facilities because on-site disposal is not available for the expected large life-cycle volumes, nor for the technical constituents, of many ORR LLW streams. The reservation encompasses three major DOE facilities: Oak Ridge National Laboratory (ORNL), Oak Ridge Y-12 Plant, and East Tennessee Technology Park (ETTP). Large quantities of LLW have been generated as a result of normal operations associated with research or manufacturing conducted at these facilities. DOE legacy and operational LLW on ORR (approximately 40,000 m³) is managed in compliant storage. It is estimated that 7700 m³ of waste could be generated annually from operations over the next 20 years. While a large portion of ORR LLW will eventually be shipped to other federally owned, DOE-operated disposal facilities, DOE also intends to use commercial disposal facilities when cost-effective, compliant, and in the best interest of the government.

The planned action is to package as needed, load, and ship existing and forecasted ORR LLW to existing or future facilities at other DOE sites such as the Nevada Test Site (NTS), the Hanford Reservation, the Savannah River Site, and licensed commercial nuclear waste treatment or disposal facilities. These include Envirocare of Utah Inc. (Envirocare), Clive, Utah; Waste Control Specialists (WCS), Andrews, Texas; commercial facilities near the Savannah River Site (SRS), Aiken, South Carolina; commercial facilities near ORR; and commercial facilities near the Hanford Site, Richland, Washington. LLW will either be shipped directly from ORR to a DOE or licensed commercial disposal facility or to a licensed commercial treatment facility and then to a DOE or licensed commercial disposal facility. ORR LLW will generally be transported by truck but may also be transported by rail or intermodal carrier (i.e., truck and rail combination) when advantageous.

The impact analysis in the EA addressed the potential effects of loading and transporting accumulated legacy and ongoing operations LLW from Oak Ridge, Tennessee, to destinations representative of other DOE sites and licensed commercial nuclear waste treatment or disposal facilities. The potential effects of transport over both highway and rail routes were evaluated. Evaluation of LLW being generated by ongoing operations at the ORR was based on volumes anticipated over a 20-year life cycle. The potential effects were evaluated on per shipment, annual, and 20-year bases. The EA did not address waste for which treatment and disposal are addressed pursuant to the Comprehensive Environmental Response, Compensation, and Liability Act of 1980 (CERCLA), on-site activities that are already being conducted as a part of routine waste management at the ORR, or activities conducted prior to loading or at the destination facilities.

Issued in Oak Ridge, Tennessee, on October 29, 2001.
David Allen,
Oak Ridge Operations Office, NEPA Compliance Officer.

[FR Doc. 01-30807 Filed 12-12-01; 8:45 am]

BILLING CODE 6450-01-P